DEPARTMENT OF HOUSING AND URBAN DEVELOPMENT

[Docket No. FR-5752-N-65]

30-Day Notice of Proposed Information Collection for Public Comment: Manufactured Housing Survey

AGENCY: Office of the Chief Information Officer, HUD.

ACTION: Notice.

SUMMARY: HUD has submitted the proposed information collection requirement described below to the Office of Management and Budget (OMB), in accordance with the Paperwork Reduction Act. The purpose of this notice is to allow for an additional 30 days of public comment.

DATES: Comments Due Date: September 10, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD has submitted to OMB a request for approval of the information collection described in Section A. The Federal Register notice that solicited public comment on proposed changes to the survey for a period of 60 days was published on January 28, 2014, and serves as the required 60 day notice.

A. Overview of Information Collection

Title of Information Collection: Manufactured Housing Survey (formerly known as the Survey of New Manufactured (Mobile) Home Placements).

OMB Control Number: 2528-0029.

Form Number: C-MH-9A.

Type of Review: Regular Submission.

Description of the need for the information and proposed use: This survey is used to collect data on new manufactured homes. The data are collected from manufactured home dealers. The principal user, HUD, uses the statistics to monitor trends in this type of low-cost housing; to formulate policy, draft legislation, and evaluate programs.

Starting in fiscal year 2015, HUD intends to change the way data is collected such that the survey will no longer follow each unit until it is placed on a site. Instead, each dealer receiving a manufactured housing unit selected for the sample is contacted only once to collect information about that unit. This change will substantially reduce the cost of the survey. The new data collection strategy will not be sufficient to produce estimates of dealer's inventory. However, estimates of placements will continue to be produced using a revised methodology.

Members of affected public: Business or other for profit (Manufactured home dealers).

Estimated Number of Respondents: 4,800 yearly (maximum).

Estimated Time per Response: 20 minutes.

Frequency of Response: 1 time.

Estimated Total Annual Burden Hours: 1,600.

Estimated Total Annual Cost: The only cost to respondents is that of their time. The total estimated cost in FY 2015 is $380,000.

Respondent's Obligation: Voluntary.

Legal Authority: The survey is taken under Title 12, United States Code, Section 1701z-1 and Title 12, United States Code, Section 308(e) of Public Law 96-399.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses.

HUD encourages interested parties to submit comment in response to these questions. Comments submitted in response to this notice will be summarized and/or included in the request for OMB approval of this information collection. Submitted comments will become a matter of public record.

Authority: Section 3507 of the Paperwork Reduction Act of 1995, 44 U.S.C. Chapter 35.

Dated: August 6, 2014.
Colette Pollard,
Department Reports Management Officer, Office of the Chief Information Officer.

[FR Doc. 2014-18939 Filed 8-8-14; 8:45 am]

BILLING CODE 4210-67-P